DEPARTMENT OF TRANSPORTATION

Federal Aviation Administration

14 CFR Part 97

[Docket No. 30378 ; Amdt. No. 3067 ]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective July 28, 2003. The compliance date for each SIAP is specified in the amendatory provisions.

The incorporation by reference of certain publications listed in the regulations is approved by the Director of the Federal Register as of July 28, 2003.

ADDRESSES: Availability of matters incorporated by reference in the amendment is as follows:

For Examination—

1. FAA Rules Docket, FAA Headquarters Building, 800 Independence Avenue, SW., Washington, DC 20591;

2. The FAA Regional Office of the region in which the affected airport is located;

3. The Flight Inspection Area Office which originated the SIAP; or,

4. The Office of Federal Register, 800 North Capitol Street, NW., Suite 700, Washington, DC.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK 73169 (Mail Address: PO Box 25082 Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on July 18, 2003.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 continues to read as follows:

Authority: 49 U.S. C. 106(g), 40103, 40106, 40113, 40114, 40120, 44502, 44514, 44701, 44719, 44721-44722.

2. Part 97 is amended as follows:

§§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective August 7, 2003

Frederick, MD, Frederick Muni, RNAV (GPS) RWY 23, Amdt 1

* * * Effective September 4, 2003

Blytheville, AR, Arkansas International, VOR RWY 18, Amdt 1

Blytheville, AR, Arkansas International, VOR RWY 36, Amdt 1

Blytheville, AR, Arkansas International, ILS RWY 18, Orig

Blytheville, AR, Arkansas International, ILS/DME RWY 18, Orig-B, CANCELLED

Blytheville, AR, Arkansas International, RNAV (GPS) RWY 18, Orig

Blytheville, AR, Arkansas International, RNAV (GPS) RWY 36, Orig

Brooksville, FL, Hernando County, RNAV (GPS) RWY 3, Orig

Brooksville, FL, Hernando County, RNAV (GPS) RWY 9, Orig

Brooksville, FL, Hernando County, RNAV (GPS) RWY 21, Orig

Brooksville, FL, Hernando County, RNAV (GPS) RWY 27, Orig

Brooksville, FL, Hernando County, GPS RWY 3, Orig, CANCELLED

Brooksville, FL, Hernando County, GPS RWY 9, Amdt 1, CANCELLED

Brooksville, FL, Hernando County, GPS RWY 21, Amdt 1, CANCELLED

Brooksville, FL, Hernando County, GPS RWY 27, Amdt 1, CANCELLED

Kamulea, HI, Waimea-Kohala, VOR/DME-A, Orig

Kamulea, HI, Waimea-Kohala, VOR/DME RWY 4, Orig

Kamulea, HI, Waimea-Kohala, RNAV (GPS) RWY 4, Orig

Kamulea, HI, Waimea-Kohala, RNAV (GPS) RWY 22, Orig

Mansfield, LA, Desoto Parish, NDB RWY 18, Amdt 2

Mansfield, LA, Desoto Parish, RNAV (GPS) RWY 18, Orig

Mansfield, LA, Desoto Parish, GPS RWY 18, Orig, CANCELLED

Galliano, LA, South Lafourche, RNAV (GPS) RWY 18, Orig

Galliano, LA, South Lafourche, GPS RWY 18, Orig, CANCELLED

Patterson, LA, Harry P. Williams Memorial, VOR/DME-A, Amdt 10

Patterson, LA, Harry P. Williams Memorial, NDB RWY 6, Amdt 10

Patterson, LA, Harry P. Williams Memorial, ILS RWY 24, Amdt 1

Patterson, LA, Harry P. Williams Memorial, RNAV (GPS) RWY 6, Orig

Patterson, LA, Harry P. Williams Memorial, RNAV (GPS) RWY 24, Orig

Mitchellville, MD, Freeway, VOR RWY 36, Orig-B

Mitchellville, MD, Freeway, RNAV (GPS) RWY 18, Orig

Mitchellville, MD, Freeway, RNAV (GPS) RWY 36, Orig

Windom, MN, Windom Muni, NDB RWY 17, Amdt 5

Windom, MN, Windom Muni, RNAV (GPS) RWY 17, Orig

Windom, MN, Windom Muni, RNAV (GPS) RWY 35, Orig

Brookfield, MO, North Central Missouri Regional, RNAV (GPS) RWY 18, Orig

Brookfield, MO, North Central Missouri Regional, RNAV (GPS) RWY 36, Orig

New Madrid, MO, County Memorial, NDB RWY 18, Amdt 3, CANCELLED

Beatrice, NE, Beatrice Municipal, VOR RWY 13, Amdt 16B

Beatrice, NE, Beatrice Municipal, VOR RWY 35, Amdt 7A

Beatrice, NE, Beatrice Municipal, NDB-A, Amdt 3B

Beatrice, NE, Beatrice Municipal, NDB RWY 13, Amdt 8B

Beatrice, NE, Beatrice Municipal, RNAV (GPS) RWY 13, Orig

Beatrice, NE, Beatrice Municipal, RNAV (GPS) RWY 17, Orig

Beatrice, NE, Beatrice Municipal, RNAV (GPS) RWY 31, Orig

Beatrice, NE, Beatrice Municipal, RNAV (GPS) RWY 35, Orig

Beatrice, NE, Beatrice Municipal, GPS RWY 35, Orig-B, CANCELLED

Falls City, NE, Brenner Field, NDB-A, Amdt 3B

Falls City, NE, Brenner Field, RNAV (GPS) RWY 14, Orig

Falls City, NE, Brenner Field, RNAV (GPS) RWY 32, Orig

Falls City, NE, Brenner Field, GPS RWY 32, Orig, CANCELLED

Clayton, NM, Clayton Muni Arpk, RNAV (GPS) RWY 2, Orig

Clayton, NM, Clayton Muni Arpk, RNAV (GPS) RWY 20, Orig

Guthrie, OK, Guthrie Muni, RNAV (GPS) RWY 16, Orig

Guthrie, OK, Guthrie Muni, RNAV (GPS) RWY 34, Orig

Guthrie, OK, Guthrie Muni, GPS RWY 16, Orig-A, CANCELLED

Guthrie, OK, Guthrie Muni, GPS RWY 34, Amdt 1, CANCELLED

Oklahoma City, OK, Clarence E. Page Muni, RNAV (GPS) RWY 17R, Orig

Oklahoma City, OK, Clarence E. Page Muni, RNAV (GPS) RWY 35L, Orig

Oklahoma City, OK, Clarence E. Page Muni, GPS RWY 17R, Orig-A, CANCELLED

Oklahoma City, OK, Clarence E. Page Muni, GPS RWY 35L, Orig-A, CANCELLED

Sallisaw, OK, Sallisaw Muni, NDB-A, Amdt 2

Sallisaw, OK, Sallisaw Muni, RNAV (GPS) RWY 35, Orig

Sallisaw, OK, Sallisaw Muni, GPS RWY 35, Orig, CANCELLED

Corvallis, OR, Corvallis Muni, RNAV (GPS) RWY 35, Orig

Corvallis, OR, Corvallis Muni, GPS RWY 35, Orig-A, CANCELLED

Rock Springs, WY, Rock Springs-Sweetwater County, VOR-B, Amdt 4A

Rock Springs, WY, Rock Springs-Sweetwater County, NDB-C, Amdt 2A

Rock Springs, WY, Rock Springs-Sweetwater County, ILS OR LOC/DME RWY 27, Orig

Rock Springs, WY, Rock Springs-Sweetwater County, ILS/DME RWY 27, Amdt 5A, CANCELLED

Rock Springs, WY, Rock Springs-Sweetwater County, GPS RWY 27, Orig, CANCELLED

Rock Springs, WY, Rock Springs-Sweetwater County, RNAV (GPS) Z RWY 27, Orig

Rock Springs, WY, Rock Springs-Sweetwater County, RNAV (GPS) Y RWY 27, Orig

* * * Effective October 30, 2003

Bethel, AK, Bethel, VOR/DME RWY 36, Amdt 1

The FAA published the following procedures in Docket No. 30376; Amdt No. 3065 to Part 97 of the Federal Aviation Regulations (Vol. 68, FR No. 134, Page 41524; dated Monday, July 14, 2003) under section 97.33 effective September 4, 2003 which are hereby rescinded:

Frederick, MD, Frederick Muni, RNAV (GPS) 23, Amdt 1

The FAA published the following procedures in Docket No. 30376; Amdt. No. 3065 to Part 97 of the Federal Aviation Regulations (Vol. 68, FR No. 134, Page 41524; dated Monday, July 14, 2003) under sections 97.23 and 97.33 as cancelled effective September 4, 2003. The following procedures are hereby reinstated and will be published effective September 4, 2003:

Pleasanton, TX, Pleasanton Muni, NDB-A, Amdt 5A

Pleasanton, TX, Pleasanton Muni, GPS RWY 34, Orig

[FR Doc. 03-18903 Filed 7-25-03; 8:45 am]

BILLING CODE 4910-13-P